ARCHITECTURAL AND TRANSPORTATION BARRIERS COMPLIANCE BOARD

Meeting

AGENCY: Architectural and Transportation Barriers Compliance Board.

ACTION: Notice of meeting.

SUMMARY: The Architectural and Transportation Barriers Compliance Board (Access Board) has scheduled its regular business meetings to take place in Washington, DC from Monday through Wednesday, July 24-26, 2006, at the times and location noted below.

DATES: The schedule of events is as follows:

Monday, July 24, 2006

8:30-9:30 a.m. Technical Programs Committee (Closed Session).

9:30-11 Planning and Evaluation Committee.

11-Noon Budget Committee.

3 p.m.-5 Planning and Evaluation Committee.

Tuesday, July 25, 2006

9 a.m.-Noon Information Meeting on Transportation Vehicle Access.

1:30-4:30 p.m. Information Meeting on Communications Access.

Wednesday, July 26, 2006

3-4 p.m. Board Meeting.

ADDRESSES: All meetings will be held at the Crowne Plaza Hotel, 1001 14th Street, NW., Washington, DC, 20005.

FOR FURTHER INFORMATION CONTACT: For further information regarding the meetings, please contact Lawrence W. Roffee, Executive Director, (202) 272-0001 (voice) and (202) 272-0082 (TTY).

SUPPLEMENTARY INFORMATION: At the Board meeting, the Access Board will consider the following agenda items:

• Approval of the May 10, 2006 draft Board Meeting Minutes.

• Technical Programs Committee Report.

• Planning and Evaluation Committee Report.

• Budget Committee Report.

• Public Rights-of-Way Access Advisory Committee Report.

• Transportation Vehicle Access Information Meeting Report.

• Communications Access Issues Information Meeting Report.

• Special Election; Access Board Vice Chair.

The Technical Programs Committee session will be closed to the general public; all remaining meetings are open. All meetings are accessible to persons with disabilities. Persons attending Board meetings are requested to refrain from using perfume, cologne, and other fragrances for the comfort of other participants.

Lawrence W. Roffee,
Executive Director, Architectural and Transportation Barriers Compliance Board.

[FR Doc. E6-10413 Filed 7-3-06; 8:45 am]

BILLING CODE 8150-01-P